DEPARTMENT OF AGRICULTURE

Agricultural Marketing Service

[Doc. Number FV-11-0052]

United States Standards for Grades of Eggplant

AGENCY: Agricultural Marketing Service, USDA.

ACTION: Final notice.

SUMMARY: The Agricultural Marketing Service (AMS), of the Department of Agriculture (USDA), is revising the voluntary United States Standards for Grades of Eggplant. AMS has reviewed the fresh fruit and vegetable grade standards for usefulness in serving the industry. As a result, AMS will amend the similar varietal characteristic requirement in the U.S. Fancy and No. 1 grades to allow mixed colors and/or types of eggplant when designated as a mixed or specialty pack. In addition, AMS will remove the “Unclassified” category from the standards.

DATES: Effective Date: February 4, 2013.

FOR FURTHER INFORMATION CONTACT: Dave Horner, Standardization Branch, Specialty Crops Inspection Division, (540) 361-1128. The United States Standards for Grades of Eggplant are available through the Specialty Crops Inspection Division Web site at http://www.ams.usda.gov/freshinspection.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs, and are available on the internet at www.ams.usda.gov/freshinspection.

AMS is revising the voluntary United States Standards for Grades of Eggplant procedures that appear in Part 36, Title 7 of the Code of Federal Regulations (7 CFR part 36).

Background and Comments

On February 9, 2012, AMS published a notice in the Federal Register (77 FR 6774), soliciting comments regarding amending the varietal characteristic requirement in the U.S. Fancy and No. 1 grades, removing the unclassified section, and any other possible revision to the United States Standards for Grades of Eggplant. The public comment period closed on April 9, 2012, with no responses.

Based on the information gathered, AMS believes that permitting mixed colors and/or type packs will facilitate the marketing of eggplant by providing the industry with more flexibility that reflects current marketing practices and consumer demand. Therefore, AMS will revise provisions concerning the “U.S. Fancy” and “U.S. No. 1” grades by adding “except when specified as a mixed or specialty pack” to the similar varietal characteristics requirement. In addition, AMS will remove the “Unclassified” category from the standards.

The official grade of a lot of eggplant covered by these standards will be determined by the procedures set forth in the Regulations Governing Inspection, Certification, and Standards of Fresh Fruits, Vegetables and Other Products (Sec. 51.1 to 51.61).

The United States Standards for Grades of Eggplant will be effective 30 days after publication of this notice in the Federal Register.

Authority: 7 U.S.C. 1621-1627.

Dated: December 28, 2012.
Rex A. Barnes,
Administrator, Agricultural Marketing Service.

[FR Doc. 2012-31611 Filed 1-2-13; 8:45 am]

BILLING CODE 3410-02-P